DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 2 individuals and 4 entities whose property and interests in property have been blocked pursuant to the Foreign Narcotics Kingpin Designation Act (“Kingpin Act”) (21 U.S.C. 1901-1908, 8 U.S.C. 1182).

DATES: The designation by the Acting Director of OFAC of the 2 individuals and 4 entities identified in this notice pursuant to section 805(b) of the Kingpin Act is effective on May 1, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 1, 2014, the Acting Director of OFAC designated the following 2 individuals and 4 entities whose property and interests in property are blocked pursuant to section 805(b) of the Kingpin Act.

Individuals

1. AHMADY MOHAMMAD DIN, Atiqullah (a.k.a. AHMADY, Atiqullah; a.k.a. ATIQULLAH, Haji Ahmedy; a.k.a. “HASHAM, Haji”), Manzil Hati Atiq, Nahya-6, Shah-e-naw, Behind Sura Jama, Kandahar, Afghanistan; Abdul Rahman Badri Building, Flat 401, Naif Road, Deira, Dubai, United Arab Emirates; DOB 01 Jan 1965; citizen Afghanistan; Passport OR371307 (Afghanistan); alt. Passport TR027672 (Afghanistan); alt. Passport OR1138550 (Afghanistan); National ID No. 87859 (Afghanistan); alt. National ID No. 224799 (Afghanistan); alt. National ID No. 602121 (Afghanistan) (individual) [SDNTK] (Linked To: ETIHAD GROUP OF AFGHANISTAN; Linked To: ETEHAD BROTHERS; Linked To: ETEHAD BEVERAGE CO LTD; Linked To: ATIQULLAH GENERAL TRADING CO LLC).

2. AHMADY MOHAMMAD DIN, Sadiq (a.k.a. SEDIQ, Haji Mohammad), 6 Zone, Kandahar, Afghanistan; National ID No. 87883 (Afghanistan); alt. National ID No. 761154 (Afghanistan) (individual) [SDNTK] (Linked To: ETEHAD BROTHERS).

Entities

1. ATIQULLAH GENERAL TRADING CO LLC (a.k.a. ATIQ ALLAH GENERAL TRADING LLC), Flat No. 301, Abdul Rahim Badri Building, PO Box 42351, Naif Road, Deira, Dubai, United Arab Emirates; Trade License No. 525843 (United Arab Emirates) [SDNTK].

2. ETEHAD BEVERAGE CO LTD (a.k.a. ETEHAD BEVERAGES INDUSTRY), 6 Srai Tara, First Floor, Chaharsu, Kandahar, Afghanistan; This designation refers to the entity in Afghanistan and does not refer to the airline of a similar name. [SDNTK].

3. ETEHAD BROTHERS (a.k.a. ETEHAD BROTHERS MONEY SERVICES; a.k.a. ETEHAT BROTHERS LTD.; a.k.a. ETIHAD MONEY EXCHANGE), Eid Gah Street, Ahmad Shahi Market Charachi, Captain Madad, District 1, Kandahar, Afghanistan; Sarafi Bazaar, Shop #70, Kabul, Afghanistan; Business Registration Document # 1000833242; This designation refers to the entity in Afghanistan and does not refer to the airline of a similar name. [SDNTK].

4. ETIHAD GROUP OF AFGHANISTAN (a.k.a. ETEHAD AFGAN GROUP), 6 Srai Tara Singh, First Floor, Chaharsu, Kandahar, Afghanistan; This designation refers to the entity in Afghanistan and does not refer to the airline of a similar name. [SDNTK].

Dated: May 1, 2014.
Barbara C. Hammerle,
Acting Director, Office of Foreign Assets Control.

[FR Doc. 2014-10438 Filed 5-6-14; 8:45 am]

BILLING CODE 4810-AL-P